DEPARTMENT OF THE TREASURY

Internal Revenue Service

Quarterly Publication of Individuals, Who Have Chosen to Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending December 31, 2004.

LNAME | FNAME | MNAME
KISPERT | IRMGARD
Woodell | Rebecca | G.
Browning | James | D.
HEIER | ROLF | OISTEN.
LEE | PAUL | SEUNG WHAN.
NELSON | GEORGE | NICHOLAS.
SKARHEIM | ODD | PETTER RICHEY.
WARDAK | TAJ | MOHAMAD.
JONES-WELLS | CAROLINE | MARGARETHE.
NILSEN | SHARI | EVELYN GERBER.
GOODEN | RONALD
DELCARPIO | JORGE
CHEUNG | TZE-LAN | JULIA.
FANG | FANG
DERMER | SAMMY
WU | LI-PEI
SNEED | CHRISTOPHER | ALAN.
REGAN | TIMOTHY | MARC.
FORLIVIO | DANIEL | MAXIMILIAN.
LEWIS | SHAWN | ALAN.
NEWHALL | LESLIE | ANN.
SMOOTZ | MARY | FRANCES.
CLUNE | CHRIS
GJELLAND | SANDRA | LOUISE.
MENZEL | CAROLINE | ELEONORE.
COTTEN | LUCENA | ELIZABETH.
COTTEN | ANN | MARIE.
RODRIGUEZ | SOLVEIG
DI LUZIO | KARI | FLOYD.
BURROUGH | IRENE | MARY.
WINDRUM | ELIZABETH | BALLANTYNE.
LEVIN | DANIEL | JOSEPH.
LEVIN | AGILE
FURUHAMA | AYAKO
FALL | OLGA
WILLIAMS | LOUISE | CROUCHLEY.
OJJEH | LIA | MYRIAM.
MAZUMDER | RAQUIB | RAHMAN.
AL ZAKI | AJLAN WAHEED | HASAN IBRAHIM ABDULLA.
LARSEN | PER | JAN.
RUSHTON | HENRY | RICHARD LEEPER.
GRAY | TIMOTHY | BRANT.
BASSLER | PAUL | GERHARD.
WIEDEMANN | PAUL | PAT.
SCHOENEBERG | ANDREAS
STEINBACH | ADOLF
HALOFF | HILDEGARD
DI LUZIO | ROBERT | SALVATORE.
ROTHSTEIN | MICHAEL | WOLFGANG.
FENN | KLAUS | DIETER.
MCVEIGH IV | CHARLES | SENFF.
ROZANSKI | NICHOLAS | ANDREW.
DASKALOPOULOS | ANGELIKA | D.
BALDERSON | AMY | ELLEN.
KULHAVY | EDITH | MARGOT.
SARASIN | DIMITRI | JEAN.
VISCONTI | ANTOINETTE | DEVEREUX.
IYER | VIJAY
LALVANI | DINESH
SWICK | HYON | SUN.
BUTLER | PER | JENS.
GOODROW | GERARD | ANDREW.
KIM | KYUNG MIN | CHRISTINA.
KRYNEN | BERNADETTE | ANNE.
BASU | KUHU
THEIS | HELGA | MARINA.
PASSE-TIETJEN | RITA | JOAN.
GUILL | JANINE | ANN.
FUNK | STEVEN | CHRISTOPHER.
FERGUSON | DONALD | ROY.
DIAS | DEBORAH | A.
VAIZEY | JOCELYN | DE HORNE.
JENKIN | ANN
CABANISS | RICHARD | JENNINGS.
GIFFORD | JOAN | ELLEN HUDSON.
BAJER | MARC | EDWARD.
OLSON | MICHAEL | ALAN.
KOHLER | DANIEL | FRIEDRICH.
STROMER | THOMAS | EDUARD.
LYTTON-COBBOLD | HENRY | FROMANTEEL.
TING | ALBERT | KWANG-CHIN.
NUTTER | GEORGE | ERIC.
NUTTER | GLENYS
SCOTT | WILLIAM | PAUL.
FORTNER | STEPHANIE | ANN.
CLARK | PAUL | STANLEY.
HUCKABEE | POK | SUN.
SONG | SOOCK | WEON.
KWAN | YANY | YAN-CHI.
CHANG | YA-MEI
PONCE | CARLOS | ALBERTO JOSE.
ADAMS | GERALD | KENNETH.
KIM | ANNIE | YOUNG.
KIM | YONGA
AHN | YOUNG | KWON.
WELLS | MARIE | ELISE.
HUH | STEVEN
YI | GEUN-JUNG
FRILEY | CHARLES | DANA.
CHUNG | STEVE
KIM | JI | SANG.
POOLE | YUMEE | KIM.
CHONG | KIL | NAM.
HONG | JEONGDO | ALFRED.
KIM | CHA | YE.
PAULSEN | MARLYS | ANN.
STORESUND | KENNETH | MAGNUS.
KONGEVOLD | KRISTY | MARIE.
DARRAH | RICHARD | PAUL.
KIM | RONALD
CARLSSON | CARINA | MAJ.
GRINDHEIM | ROLAND | DEAN.
PETERKA | DOROTHEA | ANNE.
KNUTSEN | SUSAN | VIVIAN.
MURASE | ATSUSHI
HAMDI | YASER | ESAM.
FAZEL | FAZEL | RAHMAN.
GORDON | DENNIS | LEE.
WATTS | GEORGE | FOSTER.
EKMAN | GUNNAR | ERIK.
GONZALEZ | ALBERTO
MUMFORD | MARC | WILLIAM.
LO | TAYO
SHIME | SANDRA | J.
UTTER | ROBERT | ERIC.
MCVEIGH III | CHARLES | S.
JENKINS III | ROBERT | EDWARD.
SULLIVAN | CHARLES | ROBERT.
WEBER | JOHANNES
MCCRACKEN | MARTIN | LEWIS.
MCCRACKEN | MARTIN | LYNN.
TIMERMAN | HECTOR | MARCOS.
ADDERLY | DONALD | BRADFIELD.
LESEUR | MARY | MONICA.
BUTLER | KEVIN | CHARLES.
PETERSON | EDWARD | HUGH CHARLES.
LEE | YOON | WON.
SHAY | KAREN | MARIE.
MCEACHERN | JEANETTE | FRANCES.
PLOWMAN | JOAN | MARGARET.
HERMSDORF | MARIANNE | PFISTER.
BLACK | CHARLES | WILLIAM.

Dated: January 13, 2005.
Angie Kaminski,
Examination Operation, Philadelphia Compliance Services.

[FR Doc. 05-1951 Filed 2-1-05; 8:45 am]

BILLING CODE 4830-01-P